DEPARTMENT OF EDUCATION

Readiness and Emergency Management for Schools Grant Program

Catalog of Federal Domestic Assistance (CFDA) Number: 84.184E.

AGENCY: Office of Safe and Drug-Free Schools, Department of Education.

ACTION: Notice of proposed priorities and requirements.

SUMMARY: The Assistant Deputy Secretary for Safe and Drug-Free Schools proposes priorities and requirements for the Readiness and Emergency Management for Schools (REMS) grant program. The Assistant Deputy Secretary may use one or more of these priorities or requirements for competitions in fiscal year (FY) 2009 and later years. The REMS program was established in FY 2003 to provide resources to local educational agencies (LEAs) to supportimproving and enhancing emergency management plans. Since the initial competition, the program has undergone several program refinements designed to respond to changes in the emergency management field and the identification of key emergency management priorities. In an effort to continue to refine the REMS program, we are publishing these revised priorities and requirements. We propose this action in order to focus Federal financial assistance on supporting grants that will increase the capacity of LEAs to prevent and mitigate, prepare for, respond to, and recover from emergencies. This action is also intended to focus funding on LEAs that have not previously received funding under this program and to establish other core program requirements.

DATES: We must receive your comments on or before January 22, 2009.

ADDRESSES: Address all comments about the proposed priorities and requirements to Sara Strizzi, U.S. Department of Education, 1391 Speer Boulevard, Suite 800, Denver, CO 80204. Telephone: (303) 346-0924.

If you prefer to send your comments through the Internet, use the following address: sara.strizzi@ed.gov. You must include the term “FY 09 REMS NPP” in the subject line of your electronic message.

FOR FURTHER INFORMATION CONTACT: Sara Strizzi. Telephone: (303) 346-0924 or by e-mail: sara.strizzi@ed.gov.

If you use a telecommunications device for the deaf (TDD), call the Federal Relay Service (FRS), toll free, at 1-800-877-8339.

SUPPLEMENTARY INFORMATION: Invitation to Comment: We invite you to submit comments regarding this notice. To ensure that your comments have maximum effect in developing the notice of final priorities and requirements, we urge you to identify clearly the specific proposed priority or requirement that each comment addresses.

We invite you to assist us in complying with the specific requirements of Executive Order 12866 and its overall requirement of reducing regulatory burden that might result from these proposed priorities and requirements. Please let us know of any further ways we could reduce potential costs or increase potential benefits while preserving the effective and efficient administration of the program.

During and after the comment period, you may inspect all public comments about this notice in room 10001, 550 12th Street, SW., Washington, DC, between the hours of 8:30 a.m. and 4 p.m., Washington, DC, time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: Past emergencies, such as the events of September 11, 2001, Hurricanes Katrina and Rita, and emergencies related to other natural and man-made hazards, reinforce the need for schools and communities to plan for traditional crises and emergencies, as well as other catastrophic events. The REMS grant program provides funds to LEAs to establish an emergency management process that focuses on reviewing and strengthening emergency management plans, within the framework or the four phases of emergency management (Prevention-Mitigation, Preparedness, Response, and Recovery). The program also provides resources to LEAs to provide training for staff on emergency management procedures and requires that LEAs develop comprehensive all-hazards emergency management plans in collaboration with community partners including local law enforcement, public safety, public health, and mental health agencies, and local government.

Program Authority: 20 U.S.C. 7131.

Applicable Program Regulations: 34 CFR part 299.

Proposed Priorities

This notice contains three proposed priorities.

Proposed Priority 1—LEA Projects Designed To Develop and Enhance Local Emergency Management Capacity

Background

The REMS grant program was established to provide Federal financial assistance to support LEAs in improving and strengthening emergency management plans at the LEA and school-building levels. Because emergency management planning is a continuous process in which plans should be reviewed and revised on a regular basis, the REMS program seeks to support activities designed to assist LEAs in developing sustainable emergency management efforts. A key aspect of ensuring sustainability is increasing LEA capacity to implement all aspects of emergency management, including conducting vulnerability assessments, developing and updating written emergency procedures, training staff, and conducting drills and exercises. Working with local community partners, such as law enforcement, public safety, mental health, and public health agencies, and local government, and ensuring that LEA staff possess the requisite knowledge and expertise to carry out key emergency management tasks are critical in ensuring sustainability.

Since the initial competition under this program in FY 2003, our experience in reviewing grantee program activities and outcomes suggests that grantees whose projects do not focus on developing the capacity of LEA staff and first responders are likely to find it challenging to sustain their project activities and continue to meet the LEA's ongoing emergency management needs. Based upon this experience, we have identified a need to focus this program more specifically on increasing local emergency management capacity.

Proposed Priority: Under this proposed priority, we support LEA projects designed to create, strengthen, or improve emergency management plans at the LEA and school-building levels and build the capacity of LEA staff so that the LEA can continue the implementation of key emergency management functions after the period of Federal funding. Projects must include a plan to create, strengthen, or improve emergency management plans, at the LEA and school-building levels, and within the framework of the four phases of emergency management: Prevention-Mitigation, Preparedness, Response, and Recovery. Projects must also include: (1) Training for school personnel in emergency management procedures; (2) coordination, and the use of partnerships, with local law enforcement, public safety, public health, and mental health agencies, and local government to assist in the development of emergency management plans at the LEA and school-building levels; (3) a plan to sustain the local partnerships after the period of Federal assistance; (4) a plan for communicating school emergency management policies and reunification procedures for parents/guardians and their children following an emergency; and (5) a written plan for improving LEA capacity to sustain the emergency management process through ongoing training of personnel and the continual review of policies and procedures.

Proposed Priority 2—Priority for LEAs That Have Not Previously Received a Grant Under the REMS Program (CFDA 84.184E) and Are Located in an Urban Areas Security Initiative Jurisdiction

Background

In FY 2003, the Department of Homeland Security established the Urban Areas Security Initiative (UASI) to focus Federal preparedness resources on the unique planning, equipment, training, and exercise needs of high-threat, high-density urban areas. The intent of the UASI is to create a sustainable national model program that will enhance security and overall preparedness in order to prevent, respond to, and recover from acts of terrorism. Jurisdictions' inclusion in the UASI is determined by a formula using a combination of current threat estimates, critical assets within the specific urban area, and population density.

The Governor of each State has designated a State Administrative Agency (SAA) as the entity responsible for applying for, and administering, funds under the U.S. Department of Homeland Security Grant Program (which includes the UASI). The SAA is also responsible for defining the geographic borders for jurisdictions included in the UASI.

Ensuring that LEAs are adequately prepared for multiple hazards is a significant national concern. LEAs located in vulnerable, high-density areas have unique emergency management planning needs. While many LEAs in UASI jurisdictions have received funding under the REMS program in prior years, a number of LEAs located in UASI jurisdictions have not received the resources needed to improve and enhance their emergency management plans. In order to help meet the needs of these LEAs, we propose a priority for LEAs, including educational services agencies (ESAs), that have not previously received a grant under this program and are located within UASI jurisdictions.

Proposed Priority: We give a priority to applications from LEAs that (1) have not yet received a grant under this program (CFDA 84.184E) and (2) are located in whole or in part within Urban Areas Security Initiative (UASI) jurisdictions, as determined by the U.S. Department of Homeland Security (DHS). Applicants, including educational services agencies (ESAs), must meet both of these criteria in order to meet this priority. Under a consortium application, all members of the LEA consortium, including any ESAs, must meet both criteria to meet this priority.

Because DHS's determination of UASI jurisdictions may change from year to year, applicants under this priority must refer to the most recent list of UASI jurisdictions published by DHS when submitting their applications. In any notice inviting applications using this priority, the Department will provide applicants with information necessary to access the most recent DHS list of UASI jurisdictions.

Proposed Priority 3—Priority for Applicants That Have Not Previously Received a Grant Under the REMS Program (CFDA 84.184E)

Background

Ensuring that schools are attempting to prevent or mitigate, prepared to respond to, and equipped to recover from emergency situations that may arise from multiple hazards, including natural and man-made, is an issue of national importance. Since FY 2003, 606 projects have received funding under the REMS grant program to improve and enhance emergency management plans, a significant number but a small percentage of the total number of LEAs within the United States. To address the emergency management planning needs of LEAs that have not previously received funding under this program, we propose a priority for LEAs, including educational services agencies (ESAs), that have not yet received a grant under this program.

By establishing this priority, we hope to ensure that REMS grant funds reach greater numbers of schools and students whose emergency management planning needs have not previously been addressed.

Proposed Priority: We give priority to applications from LEAs that have not previously received a grant under this program (CFDA 84.184E). Applicants, including educational service agencies (ESAs), that have received funding under this program directly, or as the lead agency or as a partner in a consortium application under this program, will not meet this priority. Under a consortium application, all members of the LEA consortium must meet this criterion to meet this priority.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Requirements

Background

The REMS program is intended to provide resources to LEAs to assist in the development of comprehensive, sustainable emergency management plans at the LEA and school-building levels. Creating and maintaining such plans should be accomplished through close collaboration between the LEA and local community partners and should be coordinated with other State and local emergency management efforts. Collaboration and coordination at the local level will ensure that emergency management plans are customized to address local risks and vulnerabilities, taking local resources, assets, and response times into consideration, and will prevent duplication of effort.

Further under the REMS program, all LEAs will develop customized emergency management plans at the LEA and school-building levels that include plans for addressing the outbreak of infectious diseases, plans for ensuring food safety, and plans for addressing the needs of individuals with disabilities in an emergency.

Preventing infectious diseases and ensuring a safe and healthy school environment is a significant component of emergency management planning. In addition to causing widespread illness, an especially severe influenza pandemic could result in widespread school closings, absenteeism, and disruptions to the learning environment. Whether or not a pandemic strikes, seasonal influenza and other infectious diseases continue to pose a concern with respect to the health of students as well as the functioning of schools. Although it may be difficult to prevent a widespread pandemic or other infectious disease outbreak, the effects can be mitigated through proper prevention and planning strategies.

The protection of school food supplies against intentional contaminants is another critical component of emergency management. Effective food defense planning protects against intentional contamination of food, water, or facilities through the introduction of chemical or biological hazards by individuals seeking to harm students and staff. To help protect school food supplies, emergency management plans should include a written food defense plan designed to protect food storage, preparation, and delivery areas.

Comprehensive emergency management plans should include procedures that address the communication, medical, and evacuation needs of individuals with disabilities. Such procedures should be customized for each individual based upon input from parents and guardians, teachers, first responders, and the individuals themselves. Schools may also need to develop general plans for individuals with disabilities for use in congregate settings such as athletic events, graduations, or community meetings.

Emergency management plans should be based on the most current emergency management practices as established by the National Incident Management System (NIMS). In accordance with Homeland Security Presidential Directive/HSPD-5, the NIMS provides a consistent approach for Federal, State, and local governments to work effectively and efficiently together to prepare for, prevent, respond to, and recover from domestic incidents, regardless of cause, size, or complexity. Ensuring that public agencies at all levels of government, including LEAs, are implementing common emergency management principles, terminology, and organizational processes is critical to ensuring an effective and efficient response to an emergency.

Implementation of the NIMS is a dynamic process that will continue to evolve over time. In order to receive Federal preparedness funding under the REMS program, LEAs must cooperate with the efforts of their communities to meet the minimum NIMS requirements established for each fiscal year.

Proposed Requirements

The Assistant Deputy Secretary proposes the following requirements for this program. We may apply one or more of these requirements in any year in which this program is in effect.

Partner Agreements: To be considered for a grant award, an applicant must include in its application an agreement that details the participation of each of the following five community-based partners: The law enforcement agency, the public safety agency, the public health agency, the mental health agency, and the head of the applicant's local government (for example the mayor, city manager, or county executive). The agreement must include a description of each partner's roles and responsibilities in improving and strengthening emergency management plans at the LEA and school-building levels, a description of each partner's commitment to the continuation and continuous improvement of emergency management plans at the LEA and school-building levels, and the signature of an authorized representative of the LEA and each partner acknowledging the agreement. For consortium applications, each LEA to be served by the grant must submit a complete set of partner agreements with the signature of an authorized representative of the LEA and each corresponding partner acknowledging the agreement.

If one or more of the five partners listed in this requirement is not present in the applicant's community, or cannot feasibly participate, the agreement must explain the absence of each missing partner. To be considered eligible for funding, however, an application must include a signed agreement between the LEA, a law enforcement partner, and at least one of the other required partners (public safety agency, public health agency, mental health agency, or the head of the local government).

Applications that fail to include the required agreement, including information on partners' roles and responsibilities and on their commitment to continuation and continuous improvement (with signatures and explanations for missing signatures as specified above), will not be read.

Although this program requires partnerships with other parties, administrative direction and fiscal control for the project must remain with the LEA.

Coordination with State or Local Homeland Security Plan: All emergency management plans receiving funding under this program must be coordinated with the Homeland Security Plan of the State or locality in which the LEA is located. To ensure that emergency services are coordinated, and to avoid duplication of effort within States and localities, applicants must include in their applications an assurance that the LEA will coordinate with and follow the requirements of their State or local Homeland Security Plan for emergency services and initiatives.

Infectious Disease Plan: To be considered for a grant award, applicants must agree to develop a written plan designed to prepare the LEA for a possible infectious disease outbreak, such as pandemic influenza. Plans must address the four phases of emergency management (Mitigation/Prevention, Preparedness, Response, and Recovery) and include a plan for disease surveillance (systematic collection and analysis of data that lead to action being taken to prevent and control a disease), school closure decision making, business continuity (processes and procedures established to ensure that essential functions can continue during and after a disaster), and continuation of educational services.

Food Defense Plan: To be considered for a grant award, applicants must agree to develop a written food defense plan that includes the four phases of emergency management (Prevention-Mitigation, Preparedness, Response, and Recovery) and is designed to safeguard the LEA's food supply, including all food storage and preparation facilities and delivery areas within the LEA.

Individuals with Disabilities: Applicants must agree to develop plans that take into consideration the communication, medical, and evacuation needs of individuals with disabilities within the schools in the LEA.

Implementation of the National Incident Management System (NIMS): Applicants must agree to implement their grant in a manner consistent with the implementation of the NIMS in their communities. Applicants must include in their applications an assurance that they have met, or will complete, all current NIMS requirements by the end of the grant period.

Because DHS' determination of NIMS requirements may change from year to year, applicants must refer to the most recent list of NIMS requirements published by DHS when submitting their applications. In any notice inviting applications, the Department will provide applicants with information necessary to access the most recent DHS list of NIMS requirements.

Note: An LEA's NIMS compliance must be achieved in close coordination with the local government and with recognition of the first responder capabilities held by the LEA and the local government. As LEAs are not traditional response organizations, first responder services will typically be provided to LEAs by local fire and rescue departments, emergency medical service providers, and law enforcement agencies. This traditional relationship must be acknowledged in achieving NIMS compliance in an integrated NIMS compliance plan for the local government and the LEA. LEA participation in the NIMS preparedness program of the local government is essential in ensuring that first responder services are delivered to schools in a timely and effective manner. Additional information about NIMS implementation and requirements is available at http://www.fema.gov/emergency/nims/.

Final Priorities and Requirements

We will announce the final priorities and requirements in a notice in the Federal Register. We will determine the final priorities and requirements after considering responses to this notice and other information available to the Department. This notice does not preclude us from proposing additional priorities, requirements, definitions, or selection criteria, subject to meeting applicable rulemaking requirements.

Note: This notice does not solicit applications. In any year in which we choose to use one or more of these priorities or requirements, we invite applications through a notice in the Federal Register.

Executive Order 12866

This notice has been reviewed in accordance with Executive Order 12866. Under the terms of the order, we have assessed the potential costs and benefits of this regulatory action.

The potential costs associated with this proposed regulatory action are those resulting from statutory requirements and those we have determined as necessary for administering this program effectively and efficiently.

In assessing the potential costs and benefits—both quantitative and qualitative—of this proposed regulatory action, we have determined that the benefits of the proposed priorities and requirements justify the costs.

We have determined, also, that this proposed regulatory action does not unduly interfere with State, local, and tribal governments in the exercise of their governmental functions.

Discussion of Costs and Benefits

The potential costs associated with the proposed priorities and requirements are minimal while the benefits are significant.

Grantees may anticipate costs in developing written infectious disease and food defense plans, implementing the NIMS requirements, and developing emergency management plans for individuals with disabilities. Grantees may also anticipate costs in achieving increased local emergency management capacity. However, these costs may be included in the grant budget and, therefore, will have little financial impact on the applicant.

The benefit of the proposed priorities and requirements is that grantees that develop a comprehensive, NIMS-compliant emergency management plan that includes training and capacity building for staff and plans for addressing the needs of individuals with disabilities, and is implemented in coordination with community partners, may prevent or mitigate the financial and human impact of an emergency in the LEA. In addition, by having written plans designed to address infectious diseases and protect the LEA's food supplies, LEAs may be able to prevent or mitigate the adverse effects of these hazards, which in turn could result in significant savings in health care and other financial costs for the school community.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: December 17, 2008.
Deborah A. Price,
Assistant Deputy Secretary for Safe and Drug-Free Schools.

[FR Doc. E8-30578 Filed 12-22-08; 8:45 am]

BILLING CODE 4000-01-P